DEPARTMENT OF HEALTH AND HUMAN SERVICES

National Institutes of Health

National Science Advisory Board for Biosecurity Meeting; Office of Biotechnology Activities, Office of Science Policy, Office of the Director; Notice of Closed Meeting

Pursuant to section 10(d) of the Federal Advisory Committee Act, as amended (5 U.S.C. App.), notice is hereby given of the following meeting of the National Science Advisory Board for Biosecurity (NSABB).

Under authority 42 U.S.C. 217a, Section 222 of the Public Health Service Act, as amended, the Department of Health and Human Services established the NSABB to provide advice, guidance and leadership regarding federal oversight of dual use research, defined as biological research that generates information and technologies that could be misused to pose a biological threat to public health and/or national security.

The NSABB is being convened on March 29-30, 2012, to review two unpublished manuscripts on the transmissibility of highly pathogenic avian influenza H5N1 virus and to provide recommendations about the responsible communication of such information. In addition, representatives from the Intelligence Community will present a classified briefing to the NSABB.

The NSABB meeting will be closed to the public in accordance with the provisions set forth in section 552b(c)(9)(B), Title 5 U.S.C. as amended, because premature disclosure of information to be discussed during the meeting would significantly frustrate the agency's ability to determine how the sensitive information in the manuscripts should be responsibly communicated, taking into consideration potential public health and national security concerns. The classified briefing of the NSABB will be closed to the public in accordance with the provisions set forth in section 552b(c)(1), Title 5 U.S.C. as amended, because classified matters sensitive to the interest of national security will be presented.

Name of Committee: National Science Advisory Board for Biosecurity.

Date: March 29-30, 2012.

Time: 4 p.m.-8 p.m. on March 29 and 8:30 a.m.-1:30 p.m. on March 30 (times approximate).

Agenda: NSABB members will review unpublished manuscripts regarding transmissibility of avian influenza H5N1 virus. In addition, representatives from the Intelligence Community will present a classified briefing.

Place: National Institutes of Health, Building 31, Center Drive, 6th Floor, Conference Room 6, Bethesda, Maryland 20892, and a location to be determined for the classified briefing.

Contact Person: Ronna Hill, NSABB Program Assistant, NIH Office of Biotechnology Activities, 6705 Rockledge Drive, Suite 750, Bethesda, Maryland 20892, (301) 496-9838, hillro@od.nih.gov.

This meeting is being published less than 15 days prior to the meeting due to timing limitations imposed by administrative matters.

Dated: March 16, 2012.
Jennifer S. Spaeth,
Director, Office of Federal Advisory Committee Policy.

[FR Doc. 2012-6949 Filed 3-21-12; 8:45 am]

BILLING CODE 4140-01-P